DEPARTMENT OF HOMELAND SECURITY

Coast Guard

33 CFR Part 165

[Docket No. USCG-2017-0536]

Safety Zone; Annual Events Requiring Safety Zones in the Captain of the Port Lake Michigan Zone-Miesfeld's Lakeshore Weekend Fireworks; Sheboygan WI

AGENCY: Coast Guard, DHS.

ACTION: Notice of enforcement of regulation.

SUMMARY: The Coast Guard will enforce the safety zone for the Miesfeld's Lakeshore Weekend fireworks display on Lake Michigan and Sheboygan Harbor, Wisconsin in the vicinity of the south pier, from 9 p.m. through 10 p.m. on July 28, 2017. This action is necessary and intended to ensure safety of life on navigable waters immediately prior to, during, and after the fireworks display. During the enforcement period, entry into, transiting, or anchoring within the safety zone is prohibited unless authorized by the Captain of the Port Lake Michigan or a designated on-scene representative.

DATES: The regulations in 33 CFR 165.929 will be enforced for safety zone (e)(49), Table 165.929, from 9 p.m. through 10 p.m. on July 28, 2017.

FOR FURTHER INFORMATION CONTACT: If you have questions on this notice of enforcement, call or email MST1 Kaleena Carpino, Marine Event Coordinator, Coast Guard Sector Lake Michigan, Milwaukee, WI; telephone (414) 747-7148, email D09-SMB-SECLakeMichigan-WWM@uscg.mil.

SUPPLEMENTARY INFORMATION: The Coast Guard will enforce the Miesfeld's Lakeshore Weekend fireworks display safety zone listed as item (e)(49) in Table 165.929 of 33 CFR 165.929 from 9 p.m. through 10 p.m. on July 28, 2017. Section 165.929 lists many annual events requiring safety zones in the Captain of the Port Lake Michigan zone; this event is listed in the annual section, however it will occur on a different date than listed this year. It is listed in 33 CFR 165.929 to be held on July 29th, but will be held July 28th at the request of the event organizer. This safety zone will encompass all waters of Menominee River within the arc of a circle with a 800-foot radius from the approximate position 43°44.917′ N., 087°41.967′ W. (NAD 83).

Entry into, transiting, or anchoring within the safety zone is prohibited unless authorized by the Captain of the Port Lake Michigan or a designated on-scene representative. The Captain of the Port Lake Michigan or a representative may be contacted via Channel 16, VHF-FM.

This notice of enforcement is issued under authority of 33 CFR 165.929, Safety Zones; Annual events requiring safety zones in the Captain of the Port Lake Michigan zone, and 5 U.S.C. 552(a). In addition to this notice of enforcement in the Federal Register, the Coast Guard plans to provide the maritime community with advance notification for the enforcement of this zone via Broadcast Notice to Mariners or Local Notice to Mariners. The Captain of the Port Lake Michigan or a representative may be contacted at 414-747-7182 or via Channel 16, VHF-FM.

Dated: July 6, 2017.
A.B. Cocanour,
Captain, U.S. Coast Guard, Captain of the Port Lake Michigan.

[FR Doc. 2017-14729 Filed 7-12-17; 8:45 am]

BILLING CODE 9110-04-P